DEPARTMENT OF AGRICULTURE

Forest Service

Notice of Resource Advisory Committee Meeting

Lassen Resource Advisory Committee, Susanville, CA, USDA Forest Service.

ACTION: Notice of meetings.

SUMMARY: Pursuant to the authorities in the Federal Advisory Committees Act (Pub. L. 92-463) and under the Secure Rural Schools and Community Self-Determination Act of 2000 (Pub. L. 106-393) the Lassen National Forest's Lassen County Resource Advisory Committee will meet Tuesday, August 8 and Wednesday, August 9 in Susanville, California for a business meeting. The meetings are open to the public.

SUPPLEMENTARY INFORMATION: The business meetings on August 8 and 9 will begin at 9 a.m., at the Lassen National Forest Headquarters Office, Caribou Conference Room, 2550 Riverside Drive, Susanville, CA 96130. These meetings will be dedicated to hearing presentations from project proponents on Tuesday and voting on Wednesday for funding through the “Secure Rural Schools and Self Determination Act of 2000,” commonly known as Payments to States. Time will also be set aside for public comments at the beginning of the meeting.

FOR FURTHER INFORMATION CONTACT: Terri Frolli, Acting District Ranger, Designated Federal Officer, at (530) 257-4188; or Public Affairs Specialist, Leona Rodreick, at (530) 252-6605.

Laurie Tippin,
Forest Supervisor.

[FR Doc. 07-3478 Filed 7-17-07; 8:45 am]

BILLING CODE 3410-11-M